DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (301) 443-7978.

Proposed Project: Protocols for the Cross-Site Evaluation of the State Incentive Grant (SIG) Program (OMB No. 0930-0226, Revision)—SAMHSA's Center for Substance Abuse Prevention (CSAP) is charged with evaluating the State Incentive Cooperative Agreements for Community-Based Action, or State Incentive Grant (SIG) Program. States receiving SIG funds are to: (1) Coordinate, leverage and/or redirect, as appropriate, all substance abuse prevention resources within the State that are directed at communities, families, schools, and workplaces, and (2) develop a revitalized, comprehensive State-wide prevention strategy aimed at reducing drug use by youth. The ultimate aim of the SIG Program is to prevent substance abuse among youths, ages 12 to 17, and also young adults, age 18-25. The 41 States, along with the District of Columbia, Puerto Rico, and the Virgin Islands, that have received SIG grants are required to implement at the community level a range of substance abuse, community-based prevention programs and strategies, at least half of which meet the specifications of sound scientific research findings, such as the National Registry of Effective Programs. CSAP awarded about $3 million per year for three years to each of five States in FY 1997 (Cohort I), fourteen States in FY 1998 (Cohort II), one State and the District of Columbia in FY 1999 (Cohort III), seven states in FY 2000 (Cohort IV), eight states and Puerto Rico in FY 2001 (Cohort V), four states in FY 2002 (Cohort VI) and two states and the Virgin Islands in FY 2003 (Cohort VII).

CSAP is conducting a national, cross-site evaluation of the SIG Program, consisting of a process and an outcome evaluation. The outcome evaluation will address two questions: (1) “Has the SIG Program had an impact on youth substance abuse?” and (2) “How do SIG States differ in their impact on youth substance abuse?” These questions will be addressed primarily using the CSAP core measures, a data collection activity already approved by the Office or Management and Budget (OMB) under control number 0930-0230. In addition to the core measures, data already being collected by SAMHSA's National Survey on Drug Use and Health (NSDUH; OMB No. 0930-0110) will be examined.

The process evaluation will focus on three questions: (1) “Did States attain the SIG Program's two main goals of coordinated funding streams and revitalized comprehensive prevention strategies and how were these goals attained?” (2) “What other substance abuse prevention programming has the State implemented?” and (3) “Did SIGs meet the criterion of supporting science-based programs fifty percent of the time, and what array of prevention activities were supported?”

Four instruments are needed to collect process information about SIG activities at the State, community, and program levels: (1) Semi-Annual Report; (2) a Final Report; (3) Site Visits; and (4) Telephone Interviews.

The Semi-Annual Report has three components. The first component, the SIG Semi-Annual Report Narrative Protocol will provide a structured report of SIG activities accomplished during the previous six months. The second component, the SIG Management Information Form (SMIF) will be a web-based, structured form. Following the first submission, selected items (less likely to change over time) will be pre-filled for subsequent reporting periods. The third component, the Sub-recipient Checklist (SCRL) will be a web-based form that contains two sections. The first section relates to the sub-recipient, the organization that actually has a fiduciary relationship with the state to engage in SIG activities at the local level. This section will gather information on the characteristics of that organization. The second section will focus on the actual prevention intervention(s) delivered by that organization.

At the conclusion of the grant, SIG awardees will be required to submit a Final Report which is designed to be a synthesis of findings from the grantee, addressing what changes occurred at the state and community levels as a result of SIG.

The community site visits will be conducted in randomly selected sample of sub-recipient communities in Cohorts I-III that have submitted pre-post matched outcome data that includes comparison data. The SIG Community Site Visit Protocol will collect data at the sub-recipient and program levels on the following topics: degree of monitoring by the State, selection processes of interventions, evaluation strategies, technical assistance provided by the State, level of guidance by the State in program selection, and evaluation.

The sampling frame for the telephone interviews will include all active sub-recipients in Cohorts I-V that are collecting outcome data at the intervention level. Sub-recipient communities selected for site visits will be excluded from the sampling frame. The SIG Community Telephone Interview Protocol will collect data on the processes for selection and implementation of interventions and the approach to evaluation of these interventions.

OMB approval has been received for the process evaluation in the first four cohorts (N = 28 states) and for states to submit previously collected outcome data for secondary analysis. This request will add the more recently funded SIG jurisdictions (Cohorts V-VII) to the process evaluation (N = 16 states) and address the burden on states (Cohorts VI-VII) to submit previously collected outcome data (N = 23 states). Included in this request are revised burden estimates based on actual experience, and a request for an extension of the period of OMB approval for the SIG cross-site evaluation by three years.

Estimated annual burden is as follows:

Instrument | Number of respondents | Responses per respondent | Hours per response | Annual burden hours
Semi-annual Report:
Narrative | 23 | 2 | 30 | 1,380
SMIF | 23 | 2 | 1.5 | 69
SRCL | 23 | 50 | 4 | 4,600
Final Report | 23 | 1 | 80 | 1,840
Site Visits:
State contacts | 10 | 1 | 1 | 10
Subrecipient contacts | 10 | 1 | 1 | 10
Site visit interviews (10 per site) | 80 | 1 | 1.5 | 120
Telephone Interviews | 81 | 1 | 1.5 | 122
Total | 273 |  |  | 8,151

Written comments and recommendations concerning the proposed information collection should be sent by August 9, 2004, to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: June 30, 2004.
Anna Marsh,
Executive Officer, SAMHSA.

[FR Doc. 04-15506 Filed 7-7-04; 8:45 am]

BILLING CODE 4162-20-P